DEPARTMENT OF HEALTH AND HUMAN SERVICES

Centers for Disease Control and Prevention

[60Day-17-17BAM; Docket No. CDC-2017-0080]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project entitled Implementing the 6|18 Initiative: Case Studies. CDC proposes to seek a three-year clearance to conduct semi-structured interviews with state public health department and Medicaid agency officials. CDC designed this information collection project to improve understanding of facilitators and barriers to increased utilization of evidence-based interventions for selected chronic and infectious diseases.

DATES: CDC must receive written comments on or before December 12, 2017.

ADDRESSES: You may submit comments, identified by Docket No. CDC-2017-0080 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. CDC will post, without change, all relevant comments to Regulations.gov. Access Regulations.gov.

Please note: Submit all public comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Proposed Project

Implementing the 6|18 Initiative: Case Studies—New—Office of the Director (OD), Centers for Disease Control and Prevention (CDC).

Background and Brief Description

Major trends in health care are providing new opportunities to pay for and deliver prevention and to improve population health. New and alternative health care payment and delivery models are more patient-centered and facilitate the delivery of greater comprehensive care and prevention. Public health departments have been eager to leverage their skill sets and resources to complement those of the health care sector, to maximize impact for population health in this time of dynamic health system change and opportunity.

In this context, CDC developed the CDC's 6|18 Initiative to provide health care purchasers, payers, and providers with rigorous evidence about high-burden health conditions and associated evidence-based interventions. With a focus on the greatest short-term health and potential cost impact (generally in less than five years), the evidence informs their coverage decisions.

The name “6|18” comes from the initial focus on six common, costly and preventable health conditions (tobacco use, high blood pressure, diabetes, asthma, healthcare-associated infections and unintended pregnancies) and 18 evidence-based prevention and control interventions, which form the content of dialogue with health care purchasers, payers and providers. More information on the Initiative content and progress can be found at http://www.cdc.gov/sixeighteen.

The 6|18 initiative links the health care and public health sectors by providing a shared focus across a spectrum of prevention interventions, from traditional clinical settings to care outside the clinical setting. Public health's strength in identifying and analyzing scientific evidence complements the purchaser, payer, and provider role of financing and delivering care.

Since cross-sector public health-health care collaboration to improve population health is still not a standard practice, information regarding public-payer collaboration with public health agencies is scarce. There are few or no case studies related to public health-health care collaboration around increasing preventive service utilization. CDC intends to fill this knowledge gap through this data collection effort.

As part of the 6|18 Initiative, CDC and its partners (Center for Health Care Strategies, Inc. (CHCS) and the Centers for Medicare and Medicaid Services (CMS)) provided technical assistance to state teams (i.e., State Medicaid and Public Health Agencies), to support and accelerate their implementation of the 6|18 Initiative's interventions. In Year 1 of the 6|18 Initiative (2016), CDC and its partners worked with nine state teams. In Year 2 (2017), CDC and its partners will work with 8 new teams from 6 states, the District of Columbia, and a large city (hereafter, “states”). No data has been collected to date.

To document qualitative lessons learned related to the collaboration, CDC and its cooperative agreement sub-contractor, George Washington University, plan to conduct in-person and telephone semi-structured individual interviews with state Public Health Department and State Medicaid Agency officials.

Interview participants will have been directly involved in conceptualizing, planning, and/or implementing 6|18 Initiative-related activities, and will have participated in the cross-sector collaboration. CDC plans to engage up to 82 respondents (four to seven officials from each of the 17 state teams who participated in the 6|18 Initiative). The officials from each state team will be leadership and staff from public health agencies at the state, city, and tribal level. For each state, we will request interviews with: One Public Health Division Director, one to four Public Health Services Managers (one per health condition), one Medicaid Director, and one Medicaid Services Manager. When joining the 6|18 Initiative, each state selected one to four conditions from the list of 6|18 conditions, and assigned one public health manager to each condition.

CDC plans to administer the interviews from 2018 to 2021, to allow time for unanticipated delays; and to accommodate state team schedules, busy seasons, and holidays. All participants will speak in their official capacity as state public health department or Medicaid agency officials. Prior to granting public access to written products, CDC will provide participants the opportunity to review written products.

CDC anticipates using the interview findings: (1) To describe, disseminate, and scale best practices to participating and non-participating states, and (2) for program improvement of the CDC's 6|18 Initiative. CDC will disseminate findings via written products such as peer-reviewed manuscripts and in-depth written case studies. The written products, which will share lessons learned and effective approaches to collaboration, can inform and potentially accelerate related efforts by other state teams. In addition, 6|18 participants can use findings and written products to highlight their accomplishments to their stakeholders, such as their Medicaid leadership, and/or governors.

Participants will have a maximum estimated burden of one hour and 15 minutes: One hour for the interview, and fifteen minutes for any needed preparation. CDC will base all interviews on the same interview guide.

CDC will seek a three-year OMB approval for this information collection project. CDC estimates that they will conduct 29 interviews per year. Participation is voluntary and respondents will not receive incentives for participation. There are no costs to respondents other than their time.

Estimated Annualized Burden Hours
Type of respondents | Form name | Number of respondents | Number of responses per respondent | Average burden per response (in hours) | Total burden (in hours)
State Public Health Director | Interview Guide | 6 | 1 | 75/60 | 8
State Public Health Manager | Interview Guide | 11 | 1 | 75/60 | 14
State Medicaid Director | Interview Guide | 6 | 1 | 75/60 | 8
State Medicaid Manager | Interview Guide | 6 | 1 | 75/60 | 8
Total |  |  |  |  | 38

Leroy A. Richardson,
Chief, Information Collection Review Office, Office of Scientific Integrity, Office of the Associate Director for Science, Office of the Director, Centers for Disease Control and Prevention.

[FR Doc. 2017-22200 Filed 10-12-17; 8:45 am]

BILLING CODE 4163-18-P